DEPARTMENT OF THE INTERIOR

National Park Service

[N6509; NPS-WASO-NAGPRA-NPS0041054; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice.

DATES: Repatriation of the cultural items in this notice may occur on or after October 14, 2025.

ADDRESSES: Send additional, written requests for repatriation of the cultural items in this notice to Megan Murphy, University of California, Riverside, 900 University Avenue, Riverside, CA 92517-5900, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of two cultural items have been requested for repatriation. The two objects of cultural patrimony are a grinding stone and a lithic core.

In 1989 one metate fragment and one lithic were collected from archaeological site CA-RIV-4066 as part of a graduate student's dissertation project and were assigned UCR accession number 176. The site, located in the Elsinore Mountains, is described by archaeologists in site records as “a campsite that has a volcanic outcrop that was probably used to quarry material to make milling stones”. A bedrock mortar and concentrations of lithic debitage were noted in the site records. This area is known to the Pechanga Band of Indians as part of their ancestral lands and any cultural objects removed from this region are of importance to the tribe; the metate and lithic core were identified by tribal representatives as being objects of cultural patrimony.

Determinations

The University of California, Riverside has determined that:

• The two objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pechanga Band of Indians (previously listed as Pechanga Band of Luiseno Mission Indians of the Pechanga Reservation, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 14, 2025. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: August 29, 2025.
Melanie O'Brien,
Manager, National NAGPRA Program.

[FR Doc. 2025-17621 Filed 9-11-25; 8:45 am]

BILLING CODE 4312-52-P